DEPARTMENT OF TRANSPORTATION

Federal Aviation Administration

Sixty-Sixth Meeting: Special Committee 135 (SC 135)

AGENCY: Federal Aviation Administration (FAA), U.S. Department of Transportation (DOT).

ACTION: Sixty-Sixth Meeting Notice of Special Committee 135.

SUMMARY: The FAA is issuing this notice to advise the public of the sixty-sixth meeting of the Special Committee 135.

DATES: The meeting will be held October 27th-October 29th from 9:00 a.m.-5:00 p.m.

ADDRESSES: The meeting will be held at RTCA Headquarters, 1150 18th Street NW., Suite 910, Washington, DC 20036, Tel: (202) 330-0663.

FOR FURTHER INFORMATION CONTACT: The RTCA Secretariat, 1150 18th Street NW., Suite 910, Washington, DC, 20036, or by telephone at (202) 833-9339, fax at (202) 833-9434, or Web site at http://www.rtca.org or Sophie Bousquet, Program Director, RTCA, Inc., sbousquet@rtca.org, (202) 330-0663.

SUPPLEMENTARY INFORMATION: Pursuant to section 10(a)(2) of the Federal Advisory Committee Act (Pub. L. 92-463, 5 U.S.C., App.), notice is hereby given for a meeting of the Special Committee 135. The agenda will include the following:

October 27-29, 2015

1. Chairmen's Opening Remarks, Introductions.

2. Approval of Summary from the Sixty-Fifth Meeting—(RTCA Paper No. 127-15/SC135-702).

3. Review New Change Proposals.

4. Review Working Group Activities.

5. New/Unfinished Business.

6. Establish date/locations for Next SC-135 Meetings.

7. Closing and Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on June 26, 2015.
Latasha Robinson,
Management & Program Analyst, NextGen, Program Oversight and Administration, Federal Aviation Administration.

[FR Doc. 2015-16245 Filed 6-30-15; 8:45 am]

BILLING CODE 4910-13-P